DEPARTMENT OF ENERGY

Federal Energy Regulatory Commission

Combined Notice of Filings #1

Take notice that the Commission received the following electric corporate filings:

Docket Numbers: EC16-64-000.

Applicants: Southwestern Public Service Company, Xcel Energy Southwest Transmission Company, LLC.

Description: Amendment to January 28, 2016 Joint Application for Authorization for Disposition of Jurisdictional Transmission Facilities of Southwestern Public Service Company, et al.

Filed Date: 5/17/16.

Accession Number: 20160517-5183.

Comments Due: 5 p.m. ET 6/7/16.

Docket Numbers: EC16-120-000.

Applicants: Otter Tail Power Company.

Description: Request For Approvals Pursuant To Section 203 Of The Federal Power Act.

Filed Date: 5/17/16.

Accession Number: 20160517-5185.

Comments Due: 5 p.m. ET 6/7/16.

Take notice that the Commission received the following exempt wholesale generator filings:

Docket Numbers: EG16-102-000.

Applicants: Aurora Generation, LLC.

Description: Notice of Self-Certification of Exempt Wholesale Generator Status.

Filed Date: 5/18/16.

Accession Number: 20160518-5067.

Comments Due: 5 p.m. ET 6/8/16.

Take notice that the Commission received the following electric rate filings:

Docket Numbers: ER15-1825-006.

Applicants: California Independent System Operator Corporation.

Description: Compliance filing: 2016-05-17 Petition for Ltd Waiver re RSI—Request Short Comment Period to be effective N/A.

Filed Date: 5/17/16.

Accession Number: 20160517-5128.

Comments Due: 5 p.m. ET 5/24/16.

Docket Numbers: ER16-897-004.

Applicants: California Independent System Operator Corporation.

Description: Compliance filing: 2016-05-17 Petition for Ltd Waiver re CPM—Request Short Comment Period to be effective N/A.

Filed Date: 5/17/16.

Accession Number: 20160517-5134.

Comments Due: 5 p.m. ET 5/24/16.

Docket Numbers: ER16-1725-000.

Applicants: Southern California Edison Company.

Description: Section 205(d) Rate Filing: 2016 Revised Added Facilities Rate under WDAT—Filing No. 13 to be effective 1/1/2016.

Filed Date: 5/18/16.

Accession Number: 20160518-5000.

Comments Due: 5 p.m. ET 6/8/16.

Docket Numbers: ER16-1726-000.

Applicants: Simpson Tacoma Kraft Company, LLC.

Description: Notice of cancelation of market based tariff of Simpson Tacoma Kraft Co. LLC.

Filed Date: 5/18/16.

Accession Number: 20160518-5027.

Comments Due: 5 p.m. ET 6/8/16.

Docket Numbers: ER16-1727-000.

Applicants: PJM Interconnection, L.L.C.

Description: Section 205(d) Rate Filing: Original WMPA SA No. 4469, Queue No. AA1-106 to be effective 5/3/2016.

Filed Date: 5/18/16.

Accession Number: 20160518-5055.

Comments Due: 5 p.m. ET 6/8/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 18, 2016.
Nathaniel J. Davis, Sr.,
Deputy Secretary.

[FR Doc. 2016-12198 Filed 5-23-16; 8:45 am]

BILLING CODE 6717-01-P